DEPARTMENT OF AGRICULTURE

Food Safety and Inspection Service

[Docket No. 03-001N]

Codex Alimentarius Commission: 25th (Extraordinary) Session of the Codex Alimentarius Commission

AGENCY: Office of the Under Secretary for Food Safety.

ACTION: Notice of public meeting; request for comments.

SUMMARY: The Office of the Under Secretary for Food Safety, United States Department of Agriculture, and the Food and Drug Administration (FDA) are sponsoring a public meeting on January 31, 2003, to provide information and receive public comments on agenda items that will be discussed at the meeting of the Codex Alimentarius Commission to be held in Geneva, Switzerland on February 13-15, 2003. The Under Secretary and FDA recognize the importance of providing interested parties the opportunity to obtain background information on the Twenty-fifth (Extraordinary) Session of Codex Alimentarius Commission (Codex) and to address items on the Agenda for the 25th Commission meeting.

DATES: The public meeting is scheduled for Friday, January 31, 2003, from 10 a.m. to 1 p.m.

ADDRESSES: The public meeting will be held in Room 107A, Jamie L. Whitten Federal Building, USDA, 12th and Jefferson Drive, SW., Washington, DC. To receive copies of the documents referenced in the notice contact the FSIS Docket Clerk, U.S. Department of Agriculture, Food Safety and Inspection Service, Room 102, Cotton Annex, 300 12th Street, SW., Washington, DC 20250-3700. The documents will also be accessible via the World Wide Web. If you have comments, please send an original and two copies to the FSIS Docket Clerk and reference Docket Number 03-001N. All comments submitted will be available for public inspection in the Docket Clerk's Office between 8:30 a.m. and 4:30 p.m., Monday through Friday.

FOR FURTHER INFORMATION CONTACT: F. Edward Scarbrough, Ph.D., U.S. Manager for Codex, U.S. Codex Office, Food Safety and Inspection Service, Room 4861, South Building, 1400 Independence Avenue, SW., Washington, DC 20250, Phone: (202) 205-7760, Fax: (202) 720-3157.

SUPPLEMENTARY INFORMATION:

Background

Codex was established in 1962 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and the Environmental Protection Agency (EPA) manage and carry out U.S. Codex activities.

Issues To Be Discussed at the Public Meeting

Report of the Evaluation of the Codex Alimentarius and other FAO and WHO Food Standards Work. An evaluation was commissioned by FAO and WHO and also designed to meet the request for a review by the Codex Alimentarius Commission. The evaluation team has completed its work and made over 40 recommendations regarding Codex policies and procedures, the expert committees, and capacity building efforts of FAO and WHO. These recommendations will be discussed at the public meeting and at the 25th (Extraordinary) Session of the Commission.

FAO/WHO Trust Fund. At its 24th Session, the Codex Alimentarius Commission agreed in principle to establish an FAO/WHO Trust Fund to support developing country participation in the Codex Commission and subsidiary body meetings. FAO and WHO were to develop clear rules and procedures for the establishment and functioning of a trust fund for consideration by the Commission to ensure its complete transparency and avoidance of bias and influence, to report on its implementation and indicate envisioned sources of funding. These rules and procedures will be discussed at the public meeting and at the 25th (Extraordinary) Session of the Commission.

Public Meeting

At the January 31st public meeting, the agenda items will be described and discussed, and attendees will have the opportunity to pose questions and offer comments. Comments may be sent to the FSIS Docket Room (see ADDRESSES). Written comments should state that they relate to activities of the 25th (Extraordinary) Session of the Codex Alimentarius Commission.

Additional Public Notification

Pursuant to Departmental Regulation 4300-4, “Civil Rights Impact Analysis,” dated September 22, 1993, FSIS has considered the potential civil rights impact of this notice on minorities, women, and persons with disabilities. Therefore, to ensure that these groups and others are made aware of this meeting, FSIS will announce it and provide copies of the Federal Register publication in the FSIS Constituent Update. FSIS provides a weekly FSIS Constituent Update, which is communicated via Listserv, a free e-mail subscription service. In addition, the update is available on line through the Internet at http://www.fsis.usda.gov. The update is used to provide information regarding FSIS policies, procedures, regulations, Federal Register notices, FSIS public meetings, recalls, and any other types of information that could affect or would be of interest to our constituents and stakeholders. The constituent Listserv consists of industry, trade, and farm groups, consumer interest groups, allied health professionals, scientific professionals, and other individuals who have requested to be included. Through the Listserv and web page, FSIS is able to provide information to a much broader, more diverse audience.

For more information, contact the Congressional and Public Affairs Office at (202) 720-9113. To be added to the free e-mail subscription service (Listserv), go to the “Constituent Update” page on the FSIS Web site at http://www.fsis.usda.gov/oa/update.htm. Click on the “Subscribe to the Constituent Update Listserv” link, then fill out and submit the form.

Done at Washington, DC, on January 28, 2003.
F. Edward Scarbrough,
U.S. Manager for Codex Alimentarius.

[FR Doc. 03-2305 Filed 1-30-03; 8:45 am]

BILLING CODE 3410-DM-P